DEPARTMENT OF HEALTH AND HUMAN SERVICES

Office of the Secretary

[Document Identifier: HHS-OS-19144-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before August 19, 2013.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and the document identifier HHS-OS-19144-30D for reference.

Information Collection Request Title: WHAM: Women's Health and Mindfulness Program.

Abstract: The Women's Health and Mindfulness (WHAM) program, developed in San Francisco, aims to test interventions that promote healthy weight in lesbian and bisexual (LB) women age 40 years and older. The project to test the interventions is scheduled for one year.

Need and Proposed Use of the Information: The Office of Women's Health (OWH) and the Department of Health and Human Services (HHS) Coordinating Committee on Lesbian, Gay, Bi-sexual and Transgender (LGBT) Issues has prioritized the collection of health data on LGBT populations. In response, OWH funded an initiative to identify and test effective and innovative ways of reducing obesity in lesbian and bisexual women. The information collected in this ICR tests two approaches to reducing obesity in the LB population. The first is a community-level health system intervention that responds to Goal 4, Strategy 4-1 of the 2012 Institute of Medicine (IOM) report “Accelerating Progress in Obesity Prevention: Solving the Weight of the Nation;” and the second is an innovative group support program that combines mindfulness-based stress reduction, nutrition, and physical activity that will be evaluated for its feasibility and evidence of effect on short-term outcomes.

Likely Respondents: Lesbian and bi-sexual women age 40 years and older.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden hours per response | Total burden hours
Health Center Systems Intervention Evaluation
Knowledge and Attitudes Assessment (Pre-training) | 40 | 1 | 5/60 | 7
Knowledge and Attitudes Assessment (Post-training) | 40 | 1 | 5/60 | 7
Group Intervention
Assessments for All Participants: Sequence 1 (Immediate Intervention Start) and Sequence 2 Comparison Group (Delayed Intervention Start at Month 5)
Group Intervention Screening Questionnaire | 120 | 1 | 10/60 | 20
Evaluation Questionnaire: -Baseline- | 80 | 1 | 45/60 | 60
Interim Behavioral Assessment-Month 1- | 80 | 1 | 10/60 | 13
Accelerometer: Activity Diary and Reminder | 40 | 3 | 20/60 | 13
Evaluation Questionnaire: Follow-up-Month 4- | 80 | 1 | 30/60 | 40
Assessments for Sequence 2 Comparison Group Participants Only (Delayed Intervention Start at Month 5)
Interim Behavioral Assessment-Month 5- | 40 | 1 | 10/60 | 7
Evaluation Questionnaire: Follow-up-Month 8- | 40 | 1 | 30/60 | 20
Total |  |  |  | 214

Keith A. Tucker,
Information Collection Clearance Officer.

[FR Doc. 2013-17215 Filed 7-17-13; 8:45 am]

BILLING CODE 4150-33-P